DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by July 21, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: The Wildlife Conservation Society, Bronx, NY, PRT-119215

The applicant requests a permit to export one male captive-born great Indian rhinoceros (Rhinoceros unicornis) to the Toronto Zoo, Ontario, Canada, for the purpose of enhancement of the species through captive propagation.

Applicant: Cincinnati Zoo and Botanical Garden, Cincinnati, OH, PRT-120130

The applicant requests an interstate commerce permit to transport four captive-born cheetahs (Acinonyx jubatus) for the purpose of enhancement of the species through fund-raising for the Cheetah Conservation Fund. This notification covers activities to be conducted by the applicant over a five-year period.

Applicant: Florida Marine Research Institute, Florida Fish & Wildlife Conservation Commission, St. Petersburg, FL, PRT-758093

The applicant requests re-issuance of their permit to import biological samples taken from hawksbill sea turtle (Eretmochelys imbricate) collected in the wild in Panama and Bermuda, for the purpose of scientific research. This notification covers activities to be conducted by the applicant over a five-year period.

Applicant: U.S. Fish and Wildlife Service, East Lansing Field Office, East Lansing, MI, PRT-122176

The applicant requests a permit to export biological samples, including feathers and toe-clips, from Kirtland warblers (Dendroica kirtlandii) collected in the wild in the United States, for scientific research.

Applicant: Peabody Museum of Natural History, Yale University, New Haven, CT, PRT-120045

The applicant requests a permit to export and re-import non-living museum specimens of endangered and threatened species of plants and animals previously accessioned into the applicant's collection for scientific research. This notification covers activities to be conducted by the applicant over a five-year period.

Marine Mammals

The public is invited to comment on the following applications for a permit to conduct certain activities with marine mammals. The applications were submitted to satisfy requirements of the Marine Mammal Protection Act of 1972, as amended (16 U.S.C. 1361 et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: Frank J. Blaha, Jr., Prince George, VA, PRT-124823

The applicant requests a permit to import a polar bear (Ursus maritimus) sport hunted from the Southern Beaufort Sea polar bear population in Canada for personal, noncommercial use.

Applicant: Harold E. Landis, Jr., Brinklow, MD, PRT-125097

The applicant requests a permit to import a polar bear (Ursus maritimus) sport hunted from the Lancaster Sound polar bear population in Canada for personal, noncommercial use.

Applicant: Warren L. Strickland, M.D., New Hope, AL, PRT-125179

The applicant requests a permit to import a polar bear (Ursus maritimus) sport hunted from the Lancaster Sound polar bear population in Canada for personal, noncommercial use.

Applicant: Randall M. Peters, Hubertus, WI, PRT-124503

The applicant requests a permit to import a polar bear (Ursus maritimus) sport hunted from the Southern Beaufort Sea polar bear population in Canada for personal, noncommercial use.

Dated: May 26, 2006.
Michael S. Moore,
Senior Permit Biologist, Branch of Permits, Division of Management Authority.

[FR Doc. E6-9726 Filed 6-20-06; 8:45 am]

BILLING CODE 4310-55-P